DEPARTMENT OF COMMERCE

National Oceanic and Atmospheric Administration

RIN 0648-XC838

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The meeting will be held on Tuesday, Wednesday, and Thursday, September 17-19, 2013. The meeting will begin at 9 a.m. on September 17 and conclude by 1 p.m. on September 19, 2013.

ADDRESSES: The meeting will be held at the Admiral Fell Inn, 888 South Broadway, Baltimore, MD 21231, telephone: (410) 522-7380.

Council address: Mid-Atlantic Fishery Management Council, 800 N State Street, Suite 201, Dover, DE 19901; telephone: (302) 674-2331.

FOR FURTHER INFORMATION CONTACT: Christopher M. Moore Ph.D., Executive Director, Mid-Atlantic Fishery Management Council, 800 N State Street, Suite 201, Dover, DE 19901; telephone: (302) 526-5255.

SUPPLEMENTARY INFORMATION: Agenda items to be discussed at the SSC meeting include: review multi-year ABC specifications for spiny dogfish, bluefish, summer flounder, scup and black sea bass; make ABC recommendations for up to three years (2014-16) for summer flounder, scup and black sea bass; review SUN Subcommittee criteria for establishing and evaluating multi-year ABC recommendations; discuss research priorities for 2014; discuss potential topics for the fifth National SSC Workshop; review proposed ABC specification protocol for forage fish; and, at the request of the Council, provide peer review of recent paper on changes in fish distribution in response to ocean warming.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: August 26, 2013.
Tracey L. Thompson,
Acting Deputy Director, Office of Sustainable Fisheries, National Marine Fisheries Service.

[FR Doc. 2013-21169 Filed 8-29-13; 8:45 am]

BILLING CODE 3510-22-P